COMMODITY FUTURES TRADING COMMISSION

Agency Information Collection Activities Under OMB Review

AGENCY: Notice of Intent to Renew Currently Approved Collection: 3038-0024.

SUMMARY: In compliance with the Paperwork Reduction Act (44 U.S.C. 3501 et seq.), this notice announces that the Information Collection Request (ICR) abstracted below has been forwarded to the Office of Management and Budget (OMB) for review and comment. The ICR describes the nature of the information collection and its expected costs and burden.

DATES: Comments must be submitted on or before February 27, 2009.

For Further Information or a Copy Contact: Mark H. Bretscher, Division of Clearing and Intermediary Oversight, CFTC, (312) 596-0529; FAX: (312) 596-0714; e-mail: Mbretscher@cftc.gov and refer to OMB Control No. 3038-0024.

SUPPLEMENTARY INFORMATION:

Title: Regulations and Forms Pertaining to the Financial Integrity of the Marketplace (OMB Control No. 3038-0024). This is a request for extension of a currently approved information collection.

Abstract: The commodity futures markets play a vital role in the furthering of global commerce by providing commercial users and speculators with a price discovery mechanism for the commodities traded on such markets and by providing commercial users of the markets with a mechanism for hedging their goods and services against price risks. The Commodity Futures Trading Commission is the independent federal regulatory agency charged with providing various forms of customer protection so that users of the markets can be assured of the financial integrity of the markets and the intermediaries that they employ in their trading activities. Among the financial safeguards the Commission has imposed on commodity brokerages, technically futures commission merchants (FCMs) and introducing brokers (IBs), are minimum capital standards and, for FCMs, a requirement that they segregate and separately account for the funds they receive from their commodity customers. In order to monitor compliance with such financial standards, the Commission has required FCMs and IBs to file financial reports with the Commission and with the self-regulatory organizations (SROs) of which they are members. (See Commission Rule 1.10, 17 CFR 1.10.)

An agency may not conduct or sponsor, and a person is not required to respond to, a collection of information unless it displays a currently valid OMB control number. The OMB control numbers for the CFTC's regulations were published on December 30, 1981. See 46 FR 63035 (Dec. 30, 1981).

Burden statement: The respondent burden for this collection is estimated to average .50 hours per response. These estimates include the time needed to review instructions; develop, acquire, install, and utilize technology and systems for the purposes of collecting, validating, and verifying information, processing and maintaining information and disclosing and providing information; adjust the existing ways to comply with any previously applicable instructions and requirements; train personnel to be able to respond to a collection of information; and transmit or otherwise disclose the information.

Respondents/Affected Entities: Futures Commission Merchants, Introducing Brokers.

Estimated Number of respondents: 2,078.

Estimated total annual burden or respondents: 21,138.50 hours.

Frequency of collection: On occasion, monthly, annually, semi-annually.

Send comments regarding the burden estimated or any other aspect of the information collection, including suggestions for reducing the burden, to the addresses listed below. Please refer to OMB Control No. 3038-0024 in any correspondence. Mark H. Bretscher, Division of Clearing and Intermediary Oversight, U.S. Commodity Futures Trading Commission, 525 W. Monroe Street, Suite 1100, Chicago, Illinois 60661 and Office of Information and Regulatory Affairs, Office of Management and Budget, Attention: Desk Officer for CFTC, 725 17th Street, Washington, DC 20503.

Dated: December 19, 2008.
David Stawick,
Secretary of the Commission.

[FR Doc. E8-30905 Filed 12-24-08; 8:45 am]

BILLING CODE 6351-01-P